DEPARTMENT OF TRANSPORTATION

Maritime Administration

[Docket No. MARAD-2025-1159]

Request for Comments on the Renewal of a Previously Approved Information Collection: Ocean Shipments Moving Under Export-Import Bank Financing

AGENCY: Maritime Administration (MARAD), U.S. Department of Transportation (DOT).

ACTION: Notice.

SUMMARY: MARAD invites public comments on its intention to request the Office of Management and Budget (OMB) approval to renew an information collection in accordance with the Paperwork Reduction Act of 1995. The proposed collection OMB 2133-0013 (Ocean Shipments Moving Under Export-Import (EXIM) Bank Financing) is used to document shipments made during the life of certain EXIM Bank financed projects. Collected information is necessary for MARAD to fulfill its legislative requirement to monitor the percentage of ocean freight revenues/tonnage. MARAD is required to publish this notice in the Federal Register to obtain comments from the public and affected agencies.

DATES: Comments must be submitted on or before February 23, 2026.

ADDRESSES: You may submit comments identified by Docket No. DOT-MARAD-2025-1159 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize or include your comments in the request for OMB's clearance of this information collection.

FOR FURTHER INFORMATION CONTACT: Lisa Burley, Office of Cargo and Commercial Sealift, Maritime Administration, U.S. Department of Transportation, 1200 New Jersey Avenue SE, Washington, DC 20590, Email: cargo.marad@dot.gov.

SUPPLEMENTARY INFORMATION:

Title: Ocean Shipments Moving Under Export-Import Bank Financing.

OMB Control Number: 2133-0013.

Type of Request: Extension without change of a currently approved collection.

Abstract: MARAD uses this information collection to monitor compliance with the cargo preference laws by parties covered under PR 17 and 46 U.S.C. 55304, compile annual information on EXIM Bank-financed shipments, and when applicable, provide for an informal grievance procedure, in the event there is a question or complaint pertaining to cargo preference matters.

The monthly shipping reports, with substantiating documents provide the only basis for MARAD to exercise its legislative responsibility to monitor EXIM Bank-financed cargoes that are transported on U.S.-flag vessels, recipient flag vessels, and on third-flag vessels according to the determinations and certifications of vessel non-availability that have been granted. The compilation of the statistics from the shipping reports forms the basis for determining compliance with PR 17 for each loan participant. This information is also provided to the EXIM Bank and is the nucleus for conducting annual reviews of the shipping activities of the EXIM Bank programs.

MARAD uses the information collected as part of the Transparency Initiative with the EXIM Bank. MARAD also intends to use collected information to assist EXIM Bank shippers with finding suitable U.S.-flag vessels and resolving requests for certifications of non-availability.

Respondents: All EXIM Bank loan and certain loan guarantee recipients and designated representatives charged with the responsibility of monthly and annual reporting. These can be a contractor, ocean transportation intermediary, supplier, etc.

Affected Public: EXIM Bank loan and certain loan guarantee recipients.

Estimated Number of Respondents: 30.

Estimated Number of Responses: 390.

Estimated Hours per Response: 0.5.

Annual Estimated Total Annual Burden Hours: 195.

Frequency of Response: Monthly and Annually.

(Authority: The Paperwork Reduction Act of 1995; 44 U.S.C. Chapter 35, as amended; and 49 CFR 1.49.)

By Order of the Maritime Administration.
Gabriel Chavez,
Secretary, Maritime Administration.

[FR Doc. 2025-23728 Filed 12-22-25; 8:45 am]

BILLING CODE 4910-81-P